DEPARTMENT OF ENERGY

Federal Energy Regulatory Commission

[Project No. 14710-000]

Energy Resources USA Inc.; Notice of Preliminary Permit Application Accepted For Filing and Soliciting Comments, Motions To Intervene, and Competing Applications

On September 2, 2015, the Energy Resources USA Inc. filed an application for a preliminary permit under section 4(f) of the Federal Power Act proposing to study the feasibility of the proposed Lock and Dam No.22 Hydroelectric Project No. 14710-000, to be located at the existing Mississippi River Lock and Dam No. 22 on the Mississippi River, near the City of Hannibal, in Ralls County, Missouri and Pike County, Illinois. The Mississippi River Lock and Dam No. 22 is owned by the United States government and operated by the U.S. Army Corps of Engineers.

The proposed project would consist of: (1) A new 770-foot-long by 300-foot-wide earthen intake area; (2) a new 220-foot by 90-foot reinforced concrete powerhouse containing four 2-megawatt Kaplan hydropower turbine-generators having a total combined generating capacity of 8.0 megawatts; (3) one new 1000-foot-long by 220-foot-wide tailrace; (4) a new 85-foot-long by 43-foot-high by 3-foot-thick intake retaining wall and a new 40-foot-long by 43-foot-high by 3-foot-thick tailrace retaining wall; (5) a new 60-foot-long by 50-foot-wide substation; (6) a new 6.54-mile-long, 115-kilovolt transmission line; and (7) appurtenant facilities. The project would have an estimated annual generation of 66.4 gigawatt-hours.

Applicant Contact: Mr. Ander Gonzalez, 2655 Le Jeune Road, Suite 804, Coral Gables, Florida 33134; telephone +34 932523840.

FERC Contact: Tyrone A. Williams, (202) 502-6331.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number P-14710-000.

More information about this project, including a copy of the application, can be viewed or printed on the “eLibrary” link of Commission's Web site at http://www.ferc.gov/docs-filing/elibrary.asp. Enter the docket number (P-14710) in the docket number field to access the document. For assistance, contact FERC Online Support.

Dated: October 6, 2015.
Kimberly D. Bose,
Secretary.

[FR Doc. 2015-26074 Filed 10-13-15; 8:45 am]

BILLING CODE 6717-01-P